DEPARTMENT OF LABOR

Office of the Secretary

Submission for OMB Review: Comment Request

October 23, 2007.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: John Kraemer, OMB Desk Officer for the Occupational Safety and Health Administration (OSHA), Office of Management and Budget, Room 10235, Washington, DC 20503, Telephone: 202-395-7316 / Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title: Concrete and Masonry Construction (29 CFR 1926, Subpart Q).

OMB Number: 1218-0095.

Affected Public: Private Sector: Business or other for-profits.

Estimated Number of Respondents: 468,600.

Estimated Total Burden Hours: 37,488.

Estimated Total Annual Costs Burden: $0.

Description: Construction firms engaged in the erection of concrete formwork are required to post warning signs/barriers in accordance with 29 CFR 1926.701(c)(2) to reduce exposure of non-essential employees to the hazards of post-tensioning operations. Paragraphs 29 CFR 1926.702(a)(2), (j)(1), and (j)(2) are general lockout/tagout measures to protect workers from injury associated with equipment and machinery.

Agency: Occupational Safety and Health Administration.

Type of Review: Extension without change of a previously approved collection.

Title: Storage and Handling of Anhydrous Ammonia (29 CFR 1910.111).

OMB Number: 1218-0208.

Affected Public: Private Sector: Business or other for-profits and Farms.

Estimated Number of Respondents: 2,030.

Estimated Total Burden Hours: 345.

Estimated Total Annual Costs Burden: $0.

Description: The container markings required by 29 CFR 1910.111 (the Standard) ensure that employers use only properly designed and tested containers and systems to store anhydrous ammonia; thereby preventing accidental exposure to employees. In addition, these requirements provide the most efficient means for an OSHA compliance officer to ensure that the containers are safe and in compliance with the Standard.

Darrin A. King,
Acting Departmental Clearance Officer.

[FR Doc. E7-21173 Filed 10-25-07; 8:45 am]

BILLING CODE 4510-26-P